DEPARTMENT OF ENERGY

Federal Energy Regulatory Commission

Combined Notice of Filings #1

Take notice that the Commission received the following electric corporate filings:

Docket Numbers: EC21-26-000.

Applicants: Niagara Mohawk Power Corporation, New York Transco, LLC.

Description: Joint Application for Authorization Under Section 203 of the Federal Power Act, et al. of Niagara Mohawk Power Corporation, et al.

Filed Date: 11/24/20.

Accession Number: 20201124-5202.

Comments Due: 5 p.m. ET 12/15/20.

Docket Numbers: EC21-27-000.

Applicants: Neosho Ridge Wind, LLC, The Empire District Electric Company.

Description: Application for Authorization Under Section 203 of the Federal Power Act, et al. of Neosho Ridge Wind, LLC, et al.

Filed Date: 11/24/20

Accession Number: 20201124-5204.

Comments Due: 5 p.m. ET 12/15/20.

Docket Numbers: EC21-28-000.

Applicants: Niagara Mohawk Power Corporation, LS Power Grid New York Corporation I.

Description: Joint Application for Authorization Under Section 203 of the Federal Power Act, et al. of Niagara Mohawk Power Corporation, et al.

Filed Date: 11/24/20.

Accession Number: 20201124-5206.

Comments Due: 5 p.m. ET 12/15/20.

Take notice that the Commission received the following exempt wholesale generator filings:

Docket Numbers: EG21-40-000.

Applicants: KCE TX 23, LLC.

Description: Notice of Self-Certification of Exempt Wholesale Generator Status of KCE TX 23, LLC.

Filed Date: 11/25/20.

Accession Number: 20201125-5121.

Comments Due: 5 p.m. ET 12/16/20.

Docket Numbers: EG21-41-000.

Applicants: KCE TX 11, LLC.

Description: Notice of Self-Certification of Exempt Wholesale Generator Status of KCE TX 11, LLC.

Filed Date: 11/25/20.

Accession Number: 20201125-5130.

Comments Due: 5 p.m. ET 12/16/20.

Docket Numbers: EG21-42-000.

Applicants: KCE TX 12, LLC.

Description: Notice of Self-Certification of Exempt Wholesale Generator Status of KCE TX 12, LLC.

Filed Date: 11/25/20.

Accession Number: 20201125-5131.

Comments Due: 5 p.m. ET 12/16/20.

Take notice that the Commission received the following electric rate filings:

Docket Numbers: ER20-1736-002.

Applicants: Versant Power.

Description: Compliance filing: Order No. 864 Compliance Filing—Response to Staff Letter (ER20-1736-) to be effective N/A.

Filed Date: 11/25/20.

Accession Number: 20201125-5001.

Comments Due: 5 p.m. ET 12/16/20.

Docket Numbers: ER20-1739-001.

Applicants: American Transmission Systems, Incorporated, PJM Interconnection, L.L.C.

Description: Compliance filing: ATSI Response to Deficiency Letter for Order No. 864 Compliance to be effective N/A.

Filed Date: 11/25/20.

Accession Number: 20201125-5013.

Comments Due: 5 p.m. ET 12/16/20.

Docket Numbers: ER21-482-000.

Applicants: Southwest Power Pool, Inc.

Description: § 205(d) Rate Filing: 1276R22 Evergy Metro NITSA NOA to be effective 2/1/2021.

Filed Date: 11/25/20.

Accession Number: 20201125-5007.

Comments Due: 5 p.m. ET 12/16/20.

Docket Numbers: ER21-483-000.

Applicants: Southwest Power Pool, Inc.

Description: § 205(d) Rate Filing: 3620R1 Kansas City Board of Public Utilities NITSA NOA to be effective 9/1/2020.

Filed Date: 11/25/20.

Accession Number: 20201125-5009.

Comments Due: 5 p.m. ET 12/16/20.

Docket Numbers: ER21-484-000.

Applicants: Hardee Power Partners Limited.

Description: § 205(d) Rate Filing: Revised Market-Based Rate Tariff Filing to be effective 11/26/2020.

Filed Date: 11/25/20.

Accession Number: 20201125-5011.

Comments Due: 5 p.m. ET 12/16/20.

Docket Numbers: ER21-485-000.

Applicants: Invenergy Energy Management LLC.

Description: § 205(d) Rate Filing: Revised Market-Based Rate Tariff Filing to be effective 11/26/2020.

Filed Date: 11/25/20.

Accession Number: 20201125-5014.

Comments Due: 5 p.m. ET 12/16/20.

Docket Numbers: ER21-486-000.

Applicants: New York Independent System Operator, Inc.

Description: § 205(d) Rate Filing: 205 filing re: revisions to TCC credit requirements to be effective 12/31/9998.

Filed Date: 11/25/20.

Accession Number: 20201125-5015.

Comments Due: 5 p.m. ET 12/16/20.

Docket Numbers: ER21-487-000.

Applicants: Invenergy TN LLC.

Description: § 205(d) Rate Filing: Revised Market-Based Rate Tariff Filing to be effective 11/26/2020.

Filed Date: 11/25/20.

Accession Number: 20201125-5016.

Comments Due: 5 p.m. ET 12/16/20.

Docket Numbers: ER21-488-000.

Applicants: Arizona Public Service Company.

Description: § 205(d) Rate Filing: OATT Administrative Filing to be effective 12/16/2016.

Filed Date: 11/25/20.

Accession Number: 20201125-5019.

Comments Due: 5 p.m. ET 12/16/20.

Docket Numbers: ER21-489-000.

Applicants: Duke Energy Progress, LLC.

Description: § 205(d) Rate Filing: DEP-Edenton Solar Reimbursement Agreement RS No. 375 to be effective 2/1/2021.

Filed Date: 11/25/20.

Accession Number: 20201125-5032.

Comments Due: 5 p.m. ET 12/16/20.

Docket Numbers: ER21-490-000.

Applicants: Midcontinent Independent System Operator Inc., Otter Tail Power Company.

Description: § 205(d) Rate Filing: 2020-11-25_SA 2690 OTP-MDU-NorthWestern Energy 1st Rev T-T (Big Stone) to be effective 10/29/2020.

Filed Date: 11/25/20.

Accession Number: 20201125-5040.

Comments Due: 5 p.m. ET 12/16/20.

Docket Numbers: ER21-491-000.

Applicants: DesertLink, LLC.

Description: § 205(d) Rate Filing: DesertLink Requests Authorization to Collect Regulatory Asset to be effective 1/25/2021.

Filed Date: 11/25/20.

Accession Number: 20201125-5043.

Comments Due: 5 p.m. ET 12/16/20.

Docket Numbers: ER21-492-000.

Applicants: Massachusetts Electric Company.

Description: § 205(d) Rate Filing: 2020 Rate Update Filing for Massachusetts Electric Borderline Sales Agreement to be effective 11/1/2019.

Filed Date: 11/25/20.

Accession Number: 20201125-5044.

Comments Due: 5 p.m. ET 12/16/20.

Docket Numbers: ER21-493-000.

Applicants: Duke Energy Florida, LLC.

Description: § 205(d) Rate Filing: DEF-DEF E&P Agreement RS No. 331 to be effective 11/26/2020.

Filed Date: 11/25/20.

Accession Number: 20201125-5045.

Comments Due: 5 p.m. ET 12/16/20.

Docket Numbers: ER21-494-000.

Applicants: PJM Interconnection, L.L.C.

Description: § 205(d) Rate Filing: Original WMPA 5856; Queue No. AF2-379 to be effective 10/27/2020.

Filed Date: 11/25/20.

Accession Number: 20201125-5046.

Comments Due: 5 p.m. ET 12/16/20.

Docket Numbers: ER21-495-000.

Applicants: Basin Electric Power Cooperative.

Description: § 205(d) Rate Filing: Basin Electric Submission of Wholesale Power Contract to be effective 2/1/2021.

Filed Date: 11/25/20.

Accession Number: 20201125-5055.

Comments Due: 5 p.m. ET 12/16/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2020.
Nathaniel J. Davis, Sr.,
Deputy Secretary.

[FR Doc. 2020-26567 Filed 12-1-20; 8:45 am]

BILLING CODE 6717-01-P